DEPARTMENT OF THE INTERIOR

Bureau of Reclamation

Delta-Mendota Canal/California Aqueduct Intertie, Alameda County, CA

AGENCY: Bureau of Reclamation, Department of the Interior.

ACTION: Notice of availability of the Draft Environmental Impact Statement (Draft EIS) and notice of public hearings.

SUMMARY: The Bureau of Reclamation, as the National Environmental Policy Act Federal lead agency, has made available for public review and comment the Delta-Mendota Canal/California Aqueduct Intertie (Intertie) Draft EIS. The Intertie is a proposed action in the August 2000 CALFED Bay-Delta Program Programmatic Record of Decision. The Intertie Draft EIS evaluates constructing and operating a pipeline connecting the Delta-Mendota Canal (DMC) and the California Aqueduct. The purpose of the Proposed Action is to improve the DMC conveyance conditions that restrict the CVP Jones Pumping Plant to less than its authorized pumping capacity of 4,600 cubic feet per second. The Draft EIS describes and presents the environmental effects of the No-Action Alternative and three action alternatives. Two public hearings will be held to receive comments from agencies, individuals, and organizations on the Draft EIS.

DATES: Two public hearings have been scheduled to receive oral or written comments regarding environmental effects:

• Tuesday, August 4, 2009, 1 p.m.-3 p.m., Sacramento, CA.

• Wednesday, August 5, 2009, 6 p.m.-8 p.m., Stockton, CA.

The Draft EIS will be available for a 45-day public review and comment period.

Comments are due by Monday, August 31, 2009.

ADDRESSES: The public hearings will be held at the following locations:

• Sacramento, CA—Bureau of Reclamation, 2800 Cottage Way, Bureau of Indian Affairs Conference Room W-2620.

• Stockton, CA—Arnold Rue Community Center, 5758 Lorraine Avenue (in Panella Park at Amaretto Street).

Send written comments on the Draft EIS to Mr. Louis Moore, Bureau of Reclamation, 2800 Cottage Way, MP-700, Sacramento, CA 95825.

Copies of the Draft EIS may be requested from Mr. Louis Moore, by writing to Bureau of Reclamation, 2800 Cottage Way, Sacramento, CA 95825; by calling 916-978-5189 (TDD 916-978-5608); or by e-mailing wmoore@usbr.gov. The Draft EIS is also accessible from the following Web site: http://www.usbr.gov/mp/nepa/nepa_projdetails.cfm?Project_ID=1014. See Supplementary Information section for locations where copies of the Draft EIS are available for public review.

FOR FURTHER INFORMATION CONTACT: Mr. Louis Moore, Bureau of Reclamation, at 916-978-5189 (TDD 916-978-5608) or wmoore@usbr.gov.

SUPPLEMENTARY INFORMATION: The Draft EIS documents the direct, indirect, and cumulative effects to the physical, biological, and socioeconomic environment that may result from the construction and operation of the Intertie facilities.

The Intertie Draft EIS evaluates constructing and operating a pipeline connecting between the Delta-Mendota Canal (DMC) and the California Aqueduct. The purpose of the Proposed Action is to improve the DMC conveyance conditions that restrict the CVP Jones Pumping Plant to less than its authorized pumping capacity of 4,600 cubic feet per second. The Draft EIS evaluates four alternatives, including the No Action, Proposed Action (alternative previously analyzed in the Environmental Assessment), an alternative location of the same design, and a temporary structure. The Intertie would be located in an unincorporated area of the San Joaquin Valley in Alameda County, west of the city of Tracy, in a rural agricultural area that is owned by the State and Federal governments. The primary study area includes the Intertie alternative facilities and the associated transmission lines connecting to the Tracy substation, which is located at DMC Milepost 3.5.

Copies of the Draft EIS are available for public review at the following locations:

• Bureau of Reclamation, Mid-Pacific Region, Regional Library, 2800 Cottage Way, Sacramento, CA 95825.

• California Bay-Delta Authority, 650 Capitol Mall, 5th Floor, Sacramento, CA 95812.

• Bureau of Reclamation, Denver Office Library, Building 67, Room 167, Denver Federal Center, 6th and Kipling, Denver, CO 80225.

• Natural Resources Library, U.S. Department of the Interior, 1849 C Street NW., Main Interior Building, Washington, DC 20240-0001.

If special assistance is required at the public hearings, please contact Mr. Louis Moore at 916-978-5189, TDD 916-978-5608, or by e-mailing wmoore@usbr.gov. Please notify Mr. Moore as far in advance as possible to enable Reclamation to secure the needed services. If a request cannot be honored, the requestor will be notified.

Before including your name, address, phone number, e-mail address, or other personal identifying information in your comment, you should be aware that your entire comment—including your personal identifying information—may be made publicly available at any time. While you can ask us in your comment to withhold your personal identifying information from public review, we cannot guarantee that we will be able to do so.

Dated: March 11, 2009.
Richard M. Johnson,
Acting Regional Director, Mid-Pacific Region.

[FR Doc. E9-16645 Filed 7-13-09; 8:45 am]

BILLING CODE 4310-MN-P